DEPARTMENT OF COMMERCE

International Trade Administration

Announcement of Upcoming US-UK Financial Innovation Partnership (FIP) Trade Mission to the United Kingdom and Education Trade Mission to India

AGENCY: International Trade Administration, Department of Commerce.

SUMMARY: The United States Department of Commerce, International Trade Administration (ITA) is announcing two upcoming trade missions that will be recruited, organized, and implemented by ITA. These missions are: US-UK Financial Innovation Partnership Trade Mission to the United Kingdom—June 21-24, 2021; Education Trade Mission to India—August 2-7, 2021. A summary of each mission is found below. Application information and more detailed mission information, including the commercial setting and sector information, can be found at the trade mission website: https://www.trade.gov/trade-missions. For each mission, recruitment will be conducted in an open and public manner, including publication in the Federal Register, posting on the Commerce Department trade mission calendar (https://www.trade.gov/trade-missions-schedule) and other internet websites, press releases to general and trade media, direct mail, broadcast fax, notices by industry trade associations and other multiplier groups, and publicity at industry meetings, symposia, conferences, and trade shows.

FOR FURTHER INFORMATION CONTACT: Gemal Brangman, Trade Promotion Programs, Industry and Analysis, International Trade Administration, U.S. Department of Commerce, 1401 Constitution Avenue NW, Washington, DC 20230; telephone (202) 482-3773.

SUPPLEMENTARY INFORMATION:

The Following Conditions for Participation Will Be Used for Each Mission

Applicants must submit a completed and signed mission application and supplemental application materials, including adequate information on their products and/or services, primary market objectives, and goals for participation to allow the Department of Commerce to evaluate their application. If the Department of Commerce receives an incomplete application, the Department may either: reject the application, request additional information/clarification, or take the lack of information into account when evaluating the application. If the requisite minimum number of participants is not selected for the mission by the recruitment deadline, the mission may be cancelled.

Each applicant must also certify that the products and services it seeks to export through the mission are either produced in the United States, or, if not, are marketed under the name of a U.S. firm and have at least 51% U.S. content by value. In the case of an organization, the applicant must certify that, for each entity to be represented by the organization, the products and/or services the represented firm or service provider seeks to export are either produced in the United States or, if not, marketed under the name of a U.S. firm and have at least 51% U.S. content.

An organization applicant must certify to the above for all of the companies it seeks to represent on the mission.

In addition, each applicant must:

• Certify that the export of products and services that it wishes to market through the mission is in compliance with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

The Following Selection Criteria Will Be Used for Each Mission

Targeted mission participants are U.S. firms, services providers and organizations (universities, research institutions, or financial services trade associations) providing or promoting U.S. products and services that have an interest in entering or expanding their business in the mission's destination country. The following criteria will be evaluated in selecting participants:

• Suitability of the applicant's (or in the case of an organization, represented firm's or service provider's) products or services to these markets;

• The applicant's (or in the case of an organization, represented firm's or service provider's) potential for business in the markets, including likelihood of exports resulting from the mission; and

• Consistency of the applicant's (or in the case of an organization, represented firm's or service provider's) goals and objectives with the stated scope of the mission.

Balance of applicant's size and location may also be considered during the review process.

Referrals from a political party or partisan political group or any information, including on the application, containing references to political contributions or other partisan political activities will be excluded from the application and will not be considered during the selection process. The sender will be notified of these exclusions.

Trade Mission Participation Fees

If and when an applicant is selected to participate on a particular mission, a payment to the Department of Commerce in the amount of the designated participation fee below is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that a mission is cancelled, no personal expenses paid in anticipation of a mission will be reimbursed. However, participation fees for a cancelled mission will be reimbursed to the extent they have not already been expended in anticipation of the mission.

If a visa is required to travel on a particular mission, applying for and obtaining such a visa will be the responsibility of the mission participant. Government fees and processing expenses to obtain such a visa are not included in the participation fee. However, the Department of Commerce will provide instructions to each participant on the procedures required to obtain business visas.

Trade Mission members participate in trade missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/travel/en/traveladvisories/traveladvisories.html/. Any question regarding insurance coverage must be resolved by the participant and its insurer of choice.

Definition of Small- and Medium-Sized Enterprise

For purposes of assessing participation fees, an applicant is a small or medium-sized enterprise (SME) if it qualifies under the Small Business Administration's (SBA) size standards (https://www.sba.gov/document/support--table-size-standards), which vary by North American Industry Classification System (NAICS) Code. The SBA Size Standards Tool [https://www.sba.gov/size-standards/] can help you determine the qualifications that apply to your company.

Mission List: (additional information about each mission can be found at https://www.trade.gov/trade-missions).

U.S.-UK Financial Innovation Partnership Trade Mission to the United Kingdom

Dates: June 21-24, 2021

Summary

The United States Department of Commerce, International Trade Administration (ITA) is organizing a financial services trade mission to the United Kingdom in conjunction with the United States-United Kingdom Financial Innovation Partnership Initiative from June 21 to 24, 2021.

The purpose of the U.S.-UK Financial Innovation Partnership (FIP) trade mission is to expand opportunities for U.S. companies at the intersection of financial services, technology and international commerce. The FIP was established in May 2019 with the intent of encouraging collaboration in the private sector, sharing information and expertise about regulatory practices, and promoting growth and innovation. The FIP focuses on two main areas—regulatory engagement and commercial engagement. The FIP also seeks to promote a dynamic private sector that supports entrepreneurs and new business models—a necessary driver of financial innovation. The FIP was specifically mentioned during the first round of U.S.-UK Free Trade Agreement negotiations in May 2020, as an important bilateral dialogue that reflects a bilateral commitment to open markets and the importance of the financial services sector.

The FIP commercial engagement pillar provides for enhanced and regular opportunities for the private sector in one country to engage with industry associations and market participants in the other country. Participants in the FIP Trade Mission will gain market insights, make industry contacts, solidify business strategies, and discuss enabling policies, with the primary goal of increasing U.S. exports of products and services to the UK. The FIP mission will include, where available, customized business appointments with pre-screened potential business partners, such as buyers, agents, distributors and/or joint venture partners; meetings with subnational and/or local government officials and industry leaders; and networking events.

Proposed Timetable

Monday, June 21, 2021 | • Trade Mission Participants Arrive.
| • No Host Dinner/Delegation Meet Up/Evening Activity (i.e., London Eye).
Tuesday, June 22, 2021 | • Opening Breakfast at Winfield House (Regents Park).
| • FCA Sandbox Discussion (Stratford).
| • Level 39 Accelerator Show Round and Visit with Key Tenants (Canary Wharf).
| • Evening Reception—TBC Bank/Venue in Canary Wharf.
Wednesday, June 23, 2021 | • 7:30 am Opening of London Stock Exchange Networking, Ceremony, and Information on Listing on the Exchange (St Paul's).
| • Bank of England Show Round and Discussion (Bank).
| • Delegation: Lunch on Own (Bank/Various); DAS: Programming with DIT Counterparts (Whitehall).
| • FIP Roundtable Discussion with HMG, FinTech Alliance at U.S. Embassy (Vauxhall).
| • Evening Reception (Sponsored/Venue TBC).
Thursday, June 24, 2021 | • Pitch Fest Half Day Forum at U.S. Embassy (Vauxhall).
| • Official Trade Mission Program Concludes.

* Note: The final schedule and potential site visits will depend on the availability of host government and business officials, specific goals of mission participants, and ground transportation.

Participation Requirements

All parties interested in participating in the trade mission must complete and submit an application package for consideration by the Department of Commerce. All applicants will be evaluated on their ability to meet certain conditions and best satisfy the selection criteria as outlined below. A minimum of 10 and maximum of 15 firms and/or trade associations will be selected to participate in the mission from the applicant pool.

Fees and Expenses

After a firm or trade association has been selected to participate on the mission, a payment to the Department of Commerce in the form of a participation fee is required. The participation fee for the United States—United Kingdom Financial Innovation Partnership (FIP) trade mission will be $2,800 for small or medium-sized enterprises (SMEs); and $4,500 for large firms or organization. The fee for each additional firm representative (large firm or SME/trade organization) is $750. When an applicant is selected to participate on the mission, a payment to the Department of Commerce in the amount of the designated participation fee is required. Upon notification that they have been selected to participate, those selected have 5 business days to submit payment or the acceptance may be revoked.

Timeframe for Recruitment and Application

Mission recruitment will be conducted in an open and public manner, including publication in the Federal Register, posting on the Commerce Department trade mission calendar (https://www.trade.gov/trade-missions-schedule) and other internet websites, press releases to general and trade media, direct mail, notices by industry trade associations and other multiplier groups, and publicity at industry meetings, symposia, conferences, and trade shows. Recruitment for the mission will begin immediately and conclude no later than December 18, 2020. The U.S. Department of Commerce will review applications and inform applicants of selection decisions on a comparative basis. Applications received after December 18, 2020, will be considered only if space and scheduling constraints permit.

Contacts

Doreen Parekh, Lead, Finance and Innovation, Office of Finance and Insurance Industries, Washington, DC, (202) 482-2915, Doreen.Parekh@trade.gov.

Gemal Brangman, Senior Advisor, Trade Missions, Trade Events Management Task Force, Washington, DC, (202) 482-3773, Gemal.Brangman@trade.gov.

Chrystal Denys, Commercial Specialist, U.S. Commercial Service London, +44 (0) 207 891 3419, Chrystal.Denys@trade.gov.

Peter Sexton, Director, Global Financial Services Team, U.S. Commercial Service New York City, (212) 809-2647, PeterSexton@trade.gov.

Eli Corso-Phinney, International Trade Specialist, Office of Western and Northern Europe, Washington, DC, (202) 482-7941, Eli.Corso-Phinney@trade.gov.

Vincent Tran, International Trade Specialist, Office of Finance and Insurance Industries, Washington, DC, (202) 482-2967, Vincent.Tran@trade.gov.

Brian Beams, Deputy Team Leader Financial Services, U.S. Commercial Service Northern New Jersey, (862) 235-5267, Brian.Beams@trade.gov.

Ryan Wallace, Senior International Investment Specialist, SelectUSA, (202) 482-7805, Ryan.Wallace@trade.gov.

Education Trade Mission to India

Dates: August 2-7, 2021

Summary

The United States Department of Commerce, International Trade Administration, U.S. Commercial Service is organizing an education industry trade mission to three cities in India: New Delhi, Bengaluru and Mumbai from August 2 to 7, 2021. This mission will include representatives from regionally accredited graduate and undergraduate schools, educational technology companies, and state study consortia whose members are also appropriately accredited at the regional level. This mission will seek to connect U.S. educational institutions and businesses operating in the educational sector to potential students, university/institution partners, and education consultants in India. The mission will include one-on-one appointments with potential partners, embassy briefings, and student fairs and networking events in New Delhi, Bengaluru, and Mumbai to recruit Indian students to the United States.

In addition to the three cities in the mission, participants may choose optional spin offs in up to four markets (Kolkata, Ahmedabad, Hyderabad and Chennai) in India, for business-to-business meetings.

Proposed Timetable

New Delhi | Travel Day/Arrival in New Delhi. Optional No Host Cultural Activities.
Monday, August 2, 2021 | New Delhi: Briefing, One-on-One matchmaking meetings; Hosted Lunch; Evening: Icebreaker Reception.
Tuesday, August 3, 2021 | Half day site visit—or student fair; Late afternoon departure for Bengaluru.
Bengaluru | Travel Day/Arrival in Bengaluru. Optional Local Tour/Activities.
Wednesday, August 4, 2021 | Bengaluru: Briefing, One-on-One matchmaking meetings; Hosted Lunch.
Thursday, August 5, 2021 | Half day site visit—or student fair; Late afternoon departure for Mumbai.
Mumbai | Travel Day/Arrival in Mumbai. Optional No Host Cultural Activities.
Friday, August 6, 2021 | Mumbai: Briefing, One-on-One matchmaking meetings; Hosted Lunch. Student fair.
Saturday, August 7, 2021 | Half day site visit—or partner event; Evening Wheels-up.

Participation Requirements

All parties interested in participating in the U.S. Department of Commerce Education Trade Mission to India must complete and submit an application package for consideration by the Department of Commerce. All applicants will be evaluated on their ability to meet certain conditions and best satisfy the selection criteria as outlined below.

A minimum of 15 and a maximum of 30 educational institutions/study state consortia/companies will be selected to participate in the mission. All selected participants will travel to three cities in India and will have the option to choose additional business-to-business side meetings in up to four markets in India as a spinoff for an additional cost.

The Trade Mission is open to U.S. educational institutions/study state consortia/U.S. educational technology companies that are new to India and those with existing business in India that are seeking to expand their market share. U.S. educational technology companies should offer unique, state-of-the-art, innovative solutions.

Fees and Expenses

After an educational institution/study state consortium/company has been selected to participate on the mission, a payment to the Department of Commerce in the form of a participation fee is required.

For the trade mission, the participation fee will be $4,326 for a small- or medium-sized enterprise (SME)* and $5,915 for large firms. Additional participants representing the same institution may participate for a fee of $500 each. Participants who choose the optional spinoff opportunity for additional business-to-business meetings in up-to four markets (Kolkata, Ahmedabad, Hyderabad and Chennai) in India, can participate for a fee of $950 per city.

The mission registration fee includes market briefings, U.S. Embassy officer consultations, networking receptions, lunch and coffee breaks, as well as transportation associated with the mission program in the region.

Timeframe for Recruitment and Application

Mission recruitment will be conducted in an open and public manner, including publication in the Federal Register, posting on the Commerce Department trade mission calendar on https://www.trade.gov/trade-missions-schedule and other internet websites, press releases to the general and trade media, direct mail and broadcast fax, notices by industry trade associations and other multiplier groups and announcements at industry meetings, symposia, conferences, and trade shows.

Recruitment for the mission will begin immediately and conclude no later than June 30, 2021. The U.S. Department of Commerce will review applications and make selection decisions on a rolling basis until the maximum of 30 participants are selected. After the close of the recruitment period, educational institutions/study state consortia/companies will be considered only if space and scheduling constraints permit.

Contacts

Gabriel Zelaya, Global Education Team Leader, U.S. Commercial Service—San Jose/Silicon Valley, U.S. Department of Commerce, gabriela.zelaya@trade.gov, Tel: 408-335-9202.

India Contact Information

Brenda VanHorn, Principal Commercial Officer, U.S. Commercial Service—U.S. Consulate General, Mumbai, Brenda.Vanhorn@trade.gov.

Noella Monteiro, Commercial Advisor, U.S. Commercial Service—U.S. Consulate General, Mumbai, Noella.Monteiro@trade.gov.

Dated: September 8, 2020.
Gemal Brangman,
Senior Advisor, Trade Missions, ITA Events Management Task Force.

[FR Doc. 2020-20154 Filed 9-11-20; 8:45 am]

BILLING CODE 3510-DR-P